DEPARTMENT OF LABOR

Office of the Secretary

Submission for OMB Review: Comment Request

January 23, 2008.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: Katherine Astrich, OMB Desk Officer for the Employment and Training Administration (ETA), Office of Management and Budget, Room 10235, Washington, DC 20503, Telephone: 202-395-7316/Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension without change of a currently approved collection.

Title: Petition for Classifying Labor Surplus Areas.

OMB Control Number: 1205-0207.

Form Number: None.

Affected Public: State Governments.

Estimated Number of Respondents: 1.

Estimated Total Annual Burden Hours: 3.

Estimated Total Annual Costs Burden: $0.

Description: Under Executive Orders 12073 and 10582, and DOL's regulations at 20 CFR parts 651 and 654, the Secretary of Labor is required to classify Labor Surplus Areas (LSAs) and disseminate this information for the use of all Federal agencies. This information is used by Federal agencies as well as State and Local governments for various purposes including procurement decisions, food stamp waiver decisions, certain small business loan decisions, as well as other purposes determined by the agencies.

DOL's regulations specify that the Department can add areas to the annual LSA listing under the exceptional circumstance criteria. Such additions are based upon information contained in petitions submitted by the State Workforce Agencies (SWAs) to DOL. These petitions contain specific economic information about an area in order to provide ample justification for adding the area to the LSA listing under the exceptional circumstances criteria. For additional information, see related notice published at 72 FR 58899 on October 17, 2007.

Darrin A. King,
Acting Departmental Clearance Officer.

[FR Doc. E8-1417 Filed 1-25-08; 8:45 am]

BILLING CODE 4510-FN-P